NATIONAL INDIAN GAMING COMMISSION

25 CFR Part 513

RIN 3141-AA25

Debt Collection

AGENCY: National Indian Gaming Commission.

ACTION: Interim rule: reopening of comment period.

SUMMARY: On November 20, 2001, the National Indian Gaming Commission (Commission) issued an interim rule (66 FR 58056, November 20, 2001) promulgating regulations setting forth procedures for collecting debts, as required by the Federal Claims Collection Act of 1966, as amended by the Debt Collection Act of 1982 and the Debt Collection Improvement Act of 1996. The 45-day period for filing comments is being reopened.

DATES: Comments shall be filed on or before January 14, 2002.

ADDRESSES: Comments may be: mailed to Cynthia Omberg, National Indian Gaming Commission, 1441 L Street, NW., Suite 9100, Washington, DC 20005; delivered to that address between 8:30 a.m. and 5:30 p.m., Monday through Friday; or faxed to 202/632-7066 (this is not a toll-free number). Comments received may be inspected between 9 a.m. and noon, and between 2 p.m. and 5 p.m., Monday through Friday.

FOR FURTHER INFORMATION CONTACT: Cynthia Omberg at 202/632-7003; fax 202/632-7066 (not toll-free numbers).

SUPPLEMENTARY INFORMATION: These regulations implement the requirements of the Federal Claims Collection Act of 1966 (Public Law 89-508, 80 Stat. 308) as amended by the Debt Collection Act of 1982 and the Debt Collection Improvement Act of 1996 (Public Law 104-134, 110 Stat. 1321). These regulations are issued in conformity with the Federal Claims Collection Standards (31 CFR Chapter IX). Under these regulations, the Commission may collect debts owed to it through various methods, including administrative offset, tax refund offset, or salary offset.

The initial comment period for the regulations closed January 4, 2002. In response to two requests for extensions of time, the Commission grants interested parties 10 additional days to determine and present their views. As an interim rule setting out agency procedure, the regulations continue to be effective during the comment period.

Montie R. Deer,
Chairman, National Indian Gaming Commission.

[FR Doc. 02-676 Filed 1-8-02; 8:45 am]

BILLING CODE 7565-01-U